CONSUMER PRODUCT SAFETY COMMISSION

16 CFR Parts 1109 and 1500

[Docket No. CPSC-2011-0081]

Amendment To Clarify When Component Part Testing Can Be Used and Which Textile Products Have Been Determined Not To Exceed the Allowable Lead Content Limits; Delay of Effective Date and Extension of Comment Period

AGENCY: U.S. Consumer Product Safety Commission.

ACTION: Direct final rule; delay of effective date and extension of comment period.

SUMMARY: The Consumer Product Safety Commission (“Commission” or “CPSC”) published a direct final rule (“DFR”) and notice of proposed rulemaking (“NPR”) in the same issue of the Federal Register on October 14, 2015, clarifying when component part testing can be used and clarifying which textile products have been determined not to exceed the allowable lead content limits. The DFR provided that, unless the Commission receives a significant adverse comment by November 13, 2015, the DFR would become effective on December 14, 2015. In response to a request for an extension of time for comments, the Commission is extending the comment period to December 14, 2015. The Commission is also delaying the effective date for the DFR to January 13, 2016.

DATES: The effective date for the direct final rule published October 14, 2015, at 80 FR 61729, is delayed from December 14, 2015, until January 13, 2016. The rule will be effective unless we receive a significant adverse comment. If we receive a significant adverse comment, we will publish notification in the Federal Register withdrawing this direct final rule before its effective date. The comment date is extended to December 14, 2015.

ADDRESSES: You may submit comments, identified by Docket No. CPSC-2011-0081, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier, preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2011-0081 into the “Search” box and follow the prompts.

SUPPLEMENTARY INFORMATION: On October 14, 2015, the Commission published a DFR and an NPR in the Federal Register, clarifying when component part testing can be used and clarifying which textile products have been determined not to exceed the allowable lead content limits. (DFR, 80 FR 61729 and NPR, 80 FR 61773). The American Apparel and Footwear Association (“AAFA”) has requested an extension of the comment period for 30 days because AAFA-member companies are currently reviewing the Commission's proposed amendment to the rule and need additional time to submit comments.

The Commission has considered the request and is extending the comment period for an additional 30 days. Because 30-day extension date falls on a Sunday, the comment period will close on December 14, 2015. The Commission believes that this extension allows adequate time for interested persons to submit comments on the proposed rule, without significantly delaying the rulemaking. Because the Commission is extending the period for comments 30 days, the Commission is extending the effective date for the DFR 30 days, as well. Thus, unless the Commission receives a significant adverse comment by December 14, 2015, the rule will become effective on January 13, 2016.

Alberta E. Mills,
Acting Secretary, Consumer Product Safety Commission.

[FR Doc. 2015-29503 Filed 11-18-15; 8:45 am]

BILLING CODE 6355-01-P